DEPARTMENT OF COMMERCE

National Telecommunications and Information Administration

[Docket No. 130124072-3072-01]

RIN 0660-XC005

Country Code Top-Level Domain (ccTLD) for the United States; Policies and Requirements; Comments Request

AGENCY: National Telecommunications and Information Administration, U.S. Department of Commerce.

ACTION: Notice of Inquiry.

SUMMARY: The United States Department of Commerce's (Department) National Telecommunications and Information Administration (NTIA) administers the contract for the country code top-level domain (ccTLD) for the United States, “.us” (usTLD). The current contract expires on August 31, 2013. Given the expiration date of this contract, NTIA is seeking input from interested parties on the policies and requirements that should govern the usTLD. NTIA will utilize the comments received in response to this Notice in the procurement process leading to the award of a new usTLD contract.

DATES: Comments due on or before March 4, 2013

ADDRESSES: Written comments may be submitted by mail to Fiona M. Alexander, Associate Administrator, Office of International Affairs, National Telecommunications and Information Administration, 1401 Constitution Avenue NW., Room 4701, Washington, DC 20230. Comments may be submitted electronically to ustldnoi@ntia.doc.gov. All email messages and comments received are a part of the public record and will generally be posted without change to the NTIA Web site at http://www.ntia.doc.gov/federal-register-notice/2013/comments-ustld-policies-and-requirements-noi. All comments received will be posted without change or redaction, so commenters should not include information they do not wish to be posted (e.g., personal or confidential business information).

FOR FURTHER INFORMATION CONTACT: For questions about this Notice contact: Elizabeth B. Bacon, National Telecommunications and Information Administration, U.S. Department of Commerce, 1401 Constitution Avenue NW., Room 4701, Washington, DC 20230; telephone: (202) 482-2097; email: ebacon@ntia.doc.gov. Please direct media inquiries to the Office of Public Affairs, NTIA, at (202) 482-7002.

SUPPLEMENTARY INFORMATION: NTIA is committed to maintaining a stable, secure Internet that is open for economic growth and innovation. One of the many ways that NTIA supports this commitment is through its role in administering the contract for the operation of the usTLD. The usTLD has historically served as a home for American business, individuals, and localities for the benefit of the nation's Internet community. The current contract expires on August 31, 2013.¹ Given the expiration date of this contract, NTIA is seeking input from interested parties on the policies and requirements that should govern the usTLD. Comments received in response to this Notice will inform the procurement process leading to the award of a new usTLD contract.

¹ The current contract (2007) is available at http://www.ntia.doc.gov/page/2011/us-domain-space.

NTIA's goal is that the usTLD be attractive to both business and individual users, be open to and encourage innovation, growth and use of the space, and reflect the multistakeholder model of Internet governance. This notice of inquiry (NOI) seeks to meet that goal by requesting public comment on current policies and how they could be updated to better serve the community's needs. This NOI also seeks views as to how the usTLD can be managed consistent with the multistakeholder model; for example, by developing a mechanism for public input and community engagement in policy development for the usTLD space.

Background

Country code TLDs (ccTLDs) are two-letter suffixes based on the International Organization for Standardization (ISO) 3166, and that represent a particular country or autonomous territory, such as .jp for Japan, or .uk for the United Kingdom. The ccTLD is usually delegated to a trustee or designated manager that is responsible for its administration, operations, and stability.² The structure, policies, and registration requirements for each ccTLD are developed at the discretion of its country or territory, carried out by the designated manager, and may vary widely to meet the needs of its user community. Currently, there are 254 active ccTLDs, with some operating as open TLDs, others limited to government use, some requiring a local presence, and others operating as global commercial TLDs.³

² The ISO 3166 list is available at http://www.iso.org/iso/iso-3166-1_decoding_table.

³ DomainWire Statistical Report, Autumn 2012, CENTR; http://www.centr.org/DomainWire_Stat_Report_2012_1.

The ccTLD for the United States is reflected as “.us” and referred to in this NOI as the usTLD. Currently, the usTLD is comprised of approximately 1,786,738 domains. The current structure also includes the operations of an estimated 3,666 “delegated managers” in the usTLD within the locality name space.⁴

⁴ “Delegated Managers” are managers of delegated subdomains in the TLD space such as state.maryland.us or ci.baltimore.md.us. The delegated manager facilitates and manages domain name registrations using this locality name such as tourism.ci.baltimore.md.us to be operated by local registrants. The usTLD contractor is required to have an agreement in place with each delegated manager. In most cases, the usTLD contractor does not have direct contractual agreements with locality registrants within delegated subdomains, however, the “delegated managers” are required to enforce usTLD policies with their registrants. For current “delegated manager” policies, see http://www.neustar.us/delegated-managers/. For a definition and description of “locality name,” see RFC1480, “The US Domain,” available at http://tools.ietf.org/html/rfc1480.

The usTLD has historically served as a home for American businesses, individuals, and localities and is managed by NTIA through a contract with Neustar, Inc.⁵ Recognizing the value of the continued operation of the usTLD, NTIA initiated a procurement process for the usTLD contract, selecting Neustar, Inc. in 2001, for a term of six years. NTIA again initiated a procurement process for the usTLD contract in 2007 and again selected Neustar, Inc. The current contract expires on August 31, 2013. Given the expiration date of the current contract, NTIA is taking this opportunity to solicit comment on ways to enhance the current policies and requirements to encourage continued innovation, growth, and increased use of the usTLD space.

⁵ The usTLD was originally administered, prior to 2001, through a cooperative agreement between the U.S. Government and Network Solutions, Inc. Network Solutions subcontracted administration of the usTLD to the Information Sciences Institute of the University of Southern California. Dr. Jon Postel established the original structure and administrative mechanisms of the usTLD in RFC 1480.

In 2007, NTIA issued a Statement of Work (SOW) that outlined several key requirements that govern the usTLD space.⁶ For example, to operate in the usTLD space, domain owners must fulfill a U.S. Nexus requirement by providing proof of a bona fide presence or residence within the United States.⁷ Each registrar in the usTLD space must provide publicly accessible, accurate, and up-to-date WHOIS information for each .us registrant. Also, the Dot Kids Implementation and Efficiency Act of 2002 (Dot Kids Act), Pub. L. No. 107-317, requires the creation and maintenance of a second level domain within the usTLD (kids.us) as a safe place on the Internet for children.⁸ NTIA welcomes comments on whether these requirements are still relevant, and if so, how they might be updated.

⁶ The Statement of Work for the 2007 contract is available at http://www.ntia.doc.gov/files/ntia/publications/ustld2007_contract.pdf, Section C, pages 4-27.

⁷ The full text of the current U.S. Nexus policy can be found at http://www.neustar.us/policies/.

⁸ On July 27, 2012, NTIA determined that the kids.us domain was not serving its intended purpose and suspended the operation of the kids.us domain as authorized by the Dot Kids Act. Per statutory requirement any request for proposal issued for the usTLD will contain a requirement to operate the kids.us space.

In addition, security and stability of the Internet remains a cornerstone of all United States Government (USG) Internet policy concerns. These concerns are reflected in the current contract and SOW through high-level security requirements, including a new requirement for Domain Name System Security Extensions (DNSSEC) deployment within the usTLD.

Community feedback and input into the development of policies and processes is an important component to the management and operation of the usTLD and reflects the USG policy supporting the multistakholder model of Internet governance. Input regarding the value of and interest in developing a mechanism that would allow for community input and consultation into policy development processes within the usTLD is encouraged. Policies of the usTLD should, to the extent practicable, be informed by best practices as developed by the global multistakeholder Internet community.⁹

⁹ For example, the Country Code Names Supporting Organization (ccNSO), which is a part of the Internet Corporation for Assigned Names and Numbers (ICANN), is a forum in which best practices are discussed and developed. For more information regarding the work of the ccNSO, please see: http://ccnso.icann.org/.

Request for Comment

The current usTLD contract will expire on August 31, 2013. Given this expiration date, NTIA is seeking public comments regarding how the current policies and requirements impact the ability to create a policy environment that allows for continuing innovation, growth, and use of the usTLD space.

Comments that contain references, studies, research, or other empirical evidence or data that are not widely published should include copies of the referenced materials with the submitted comments. While commenters are welcome to submit comments regarding the questions below and other issues relating to the effective operation and innovation of the usTLD, this NOI is not seeking comments directly regarding the current contractor's performance. Specifically, NTIA is seeking input on the following questions:

1. In general, what are your views on the current policies and requirements that govern the usTLD space? Are they still relevant? Are there ways to update the policies and practices currently utilized in the management of the usTLD that would add value to the space? Please be specific in your response.

2. Are there policies and practices developed or employed by other ccTLDs, ccTLD organizations, and the stakeholder community that could be incorporated into the usTLD space to spur innovation, growth, and use of the usTLD or improve the domain name registrant experience? Please be specific in your response.

3. How best could the management of the usTLD be structured to reflect the multistakeholder model of policy development, particularly in developing mechanisms that could engage the usTLD community? Please be specific in your response.

4. An important aspect of the multistakeholder model of policy development is a focus on transparency. Is there additional information related to the administration and performance of the usTLD contract that should be collected or shared publicly in the interest of transparency? Please provide specific information as to why or why not. If yes, please provide specific suggestions in particular on what that information should be and how that information can be made available.5. Please provide your views of the usTLD Nexus policy. Does it enhance, impede, or have no impact on the innovation and growth of the usTLD space? Please be specific in your response.

6. What updates could be made to the current usTLD WHOIS policy and practices that could benefit the usTLD registrants, law enforcement, and the broader user community?

7. How can the kids.us space be improved? Please be specific in your response.

8. What updates could be made to usTLD security policies and practices to better align with TLD best practices and ensure continued security and stability of the usTLD?

Dated: January 25, 2013.
Lawrence E. Strickling,
Assistant Secretary for Communications and Information.

[FR Doc. 2013-02058 Filed 1-30-13; 8:45 am]

BILLING CODE 3510-60-P